DEPARTMENT OF TRANSPORTATION

Federal Transit Administration

FY 2022 and FY 2023 Competitive Funding Opportunity: Competitive Grants for Rail Vehicle Replacement Program

AGENCY: Federal Transit Administration (FTA), Department of Transportation (DOT).

ACTION: Notice of Funding Opportunity (NOFO).

SUMMARY: The Federal Transit Administration (FTA) announces the opportunity to apply for $600 million in competitive grants under the fiscal year (FY) 2022 and FY 2023 Competitive Grants for Rail Vehicle Replacement Program. As required by Federal public transportation law, Competitive Grants for Rail Vehicle Replacement Program funds will be awarded competitively to assist in the funding of capital projects to replace rail rolling stock. FTA may award additional funding made available to the program prior to the announcement of project selections.

DATES: Complete proposals must be submitted electronically through the GRANTS.GOV “APPLY” function by 11:59 p.m. Eastern time, January 5, 2023. Prospective applicants should initiate the process by promptly registering on the GRANTS.GOV website to ensure completion of the application process before the submission deadline. Instructions for applying can be found on FTA's website at https://www.transit.dot.gov/funding/grants/applying/applying-fta-funding and in the “FIND” module of GRANTS.GOV. The funding opportunity ID is FTA-2023-001-TPM-RAIL. Mail and fax submissions will not be accepted.

FOR FURTHER INFORMATION CONTACT: Donna Iken, Competitive Grants for Rail Vehicle Replacement Program Manager, FTA Office of Program Management, 202-366-0876, or donna.iken@dot.gov.

Table of Contents

A. Program Description

B. Federal Award Information

C. Eligibility Information

D. Application and Submission Information

E. Application Review Information

F. Federal Award Administration Information

G. Federal Awarding Agency Contacts

H. Other Information

A. Program Description

Federal public transportation law (49 U.S.C. 5337(f)) authorizes FTA to award grants for the replacement of rail rolling stock through a competitive process, as described in this notice. The Competitive Grants for Rail Vehicle Replacement Program provides funding to State and local governmental authorities. The Federal Assistance Listing for the program is 20.525.

FTA recognizes that passenger rail service provides critical and cost-effective transportation links throughout the United States and faces a critical backlog of state of good repair and safety investments. This program supports FTA's priorities and objectives through investments that: (1) renew our transit systems; (2) advance racial equity; (3) connect communities; and (4) reduce greenhouse gas emissions. This program will be implemented, as appropriate and consistent with law, in alignment with the priorities in Executive Order 14052, Implementation of the Infrastructure Investment and Jobs Act (86 FR 64355). In addition, this NOFO will advance the goals of the President's January 20, 2021, Executive Order 13985, Advancing Racial Equity and Support for Underserved Communities Through the Federal Government (86 FR 7009).

B. Federal Award Information

Federal public transportation law (49 U.S.C. 5338(a)(2)(L)) authorizes $300,000,000 in contract authority funds for each of FY 2022 and FY 2023 for competitive grants under the Competitive Grants for Rail Vehicle Replacement Program.

FTA will grant pre-award authority to incur costs for selected projects beginning on the date the FY 2022 and FY 2023 project selections are announced on FTA's website. Funds are available for obligation for three years after the fiscal year in which the awards are announced. For multi-year grant agreements, subsequent obligations must be made in the following year for a two-year agreement, and each of the two consecutive fiscal years for a three-year agreement, following the fiscal year from which the first obligation is made. Funds are available only for projects that have not already incurred costs prior to the announcement of project selections. Per Federal public transportation law (49 U.S.C. 5337(f)(3)), FTA intends to fund up to three new awards each fiscal year. This NOFO announces two fiscal years of funding; as such, FTA may select up to six awards.

FTA may select projects to receive multi-year grant agreements. If a project is selected to receive a multi-year grant agreement, that agreement will establish the maximum amount of Federal financial assistance for the project that may be provided in not more than three consecutive fiscal years. A multi-year grant agreement will obligate an amount of available budget authority and include a contingent commitment to obligate an additional amount from future available budget authority. The contingent commitment under a multi-year agreement is not an obligation of the Federal Government.

C. Eligibility Information

1. Eligible Applicants

Eligible applicants for the Competitive Grants for Rail Vehicle Replacement Program are States and local governmental authorities.

2. Cost Sharing or Matching

Per 49 U.S.C. 5337(f)(5), the Competitive Grants for Rail Vehicle Replacement funding may be up to 50 percent of the total eligible project cost. Other Federal funding, including FTA funding, such as State of Good Repair Program formula funding, may be applied for the project up to a maximum 80 percent Federal share of eligible project costs, per 49 U.S.C. 5337(f)(6). For example, a rail vehicle replacement project with a total eligible cost of $100,000,000 may receive up to $50,000,000 from this program. The remaining $50,000,000 could be provided from a combination of non-Federal and other Federal funds, up to $30,000,000 of which could be other Federal funding. For a $100,000,000 project, at least $20,000,000 (20%) must be non-Federal funds.

Eligible sources of non-Federal matching funds include:

i. Cash from non-governmental sources other than revenues from providing transit services (such as fare revenues);

ii. Non-farebox revenues from the operation of public transportation service, such as the sale of advertising and concession revenues;

iii. Monies received under a service agreement with a State or local social service agency or private social service organization;

iv. Undistributed cash surpluses, replacement or depreciation cash funds, reserves available in cash, or new capital;

v. In-kind contributions integral to the project;

vi. Revenue bond proceeds for a capital project, with prior FTA approval; and

vii. Transportation Development Credits (formerly referred to as Toll Revenue Credits).

3. Eligible Projects

The focus of the grant program is to modernize America's transit system, focusing on maintaining a State of Good Repair for fixed-guideway rail transit. Under the Competitive Grants for Rail Vehicle Replacement Program (49 U.S.C. 5337(f)), eligible projects are the replacement of rail rolling stock. For the purposes of this program, rail rolling stock is defined as revenue service, passenger carrying vehicles, or propulsion (locomotives) vehicles necessary for the provision of rail public transportation. Replacement is defined as the number of vehicles required to replace the number of vehicles to be removed from service that are substantially the same type. If changing vehicle type (e.g., a commuter rail switching from single level to double-decker cars), the eligible project is the number of cars necessary to carry an equivalent number of passengers as the substantially same type of replacement would. These rail vehicles can include, but are not limited to, commuter rail, heavy rail, and light rail vehicles. Up to 0.5 percent of the Federal request may be used to pay for project-related workforce development activities, as long as the Federal share under this program of those workforce development activities is not more than 80 percent. Up to 0.5 percent of the Federal request may be used to pay for project related training from the National Transit Institute (NTI), as long as the Federal share under this program for the related training from NTI is not more than 80 percent. Applicants must identify the proposed use of funds for these activities in the project proposal and identify them separately in the project budget. Vehicles that do not operate on rails, including rubber tire support vehicles, as well as maintenance and other non-revenue vehicles that do operate on rails, are not eligible under this program. Fleet expansion projects are also not eligible under this program. If a procurement includes both expansion and replacement vehicles, only the cost of the replacement vehicles may be included in the total eligible project cost under this program.

As required by Federal public transportation law (49 U.S.C. 5337(f)(4)), FTA will consider the size of the rail system of the applicant, the amount of funds available to the applicant from this program, the age and condition of the rail rolling stock of the applicant that has exceeded or will exceed the useful service life in the five-year period following a grant award, and whether the applicant has identified replacement of the rail vehicles as a priority in the investment prioritization portion of the transit asset management plan of the recipient pursuant to part 625 of title 49 of the Code of Federal Regulations. Evaluation criteria are described in detail in Section E of this notice.

D. Application and Submission Information

1. Address To Request Application Package

Applications may be accessed, and must be submitted, electronically through GRANTS.GOV. General information for accessing and submitting applications through GRANTS.GOV can be found at www.fta.dot.gov/howtoapply along with specific instructions for the forms and attachments required for submission. Mail or fax submissions will not be accepted. The required SF-424 Application for Federal Assistance can be downloaded from GRANTS.GOV, and the required supplemental form can be downloaded from GRANTS.GOV or the FTA website at: https://www.transit.dot.gov/notices-funding/fiscal-year-2022-and-fiscal-year-2023-competitive-grants-rail-vehicle-replacement.

2. Content and Form of Application Submission

a. Proposal Submission

A complete proposal submission consists of two forms: (1) the SF-424 Application for Federal Assistance; and (2) the supplemental form. The supplemental form and any supporting documents must be attached to the “Attachments” section of the SF-424. The application must include responses to all sections of the SF-424 Application for Federal Assistance and the supplemental form, unless designated as optional. The information on the supplemental form will be used to determine applicant and project eligibility for the program, and to evaluate the proposal against the selection criteria described in part E of this notice. Failure to submit the information as requested can delay review or disqualify the application.

FTA will accept only one supplemental form per SF-424 submission. FTA encourages applicants to consider submitting a single supplemental form that includes multiple activities as one project to be evaluated as a consolidated proposal. If an applicant chooses to submit separate proposals for individual consideration by FTA, each proposal must be submitted using a separate SF-424 and supplemental form.

Applicants may attach additional supporting information to the SF-424 submission, including but not limited to documentation supporting the applicant's eligibility for the grant programs, letters of support, project budgets, fleet status reports, or excerpts from relevant planning documents. Supporting documentation should be described and referenced by file name in the appropriate response section of the supplemental form, or it may not be reviewed.

Information such as applicant name, Federal amount requested, local match amount, and description of areas served may be requested in varying degrees of detail on both the SF-424 and supplemental form. Applicants must fill in all fields unless otherwise stated on the forms. Applicants should not place N/A or “refer to attachment” in lieu of typing in responses in the field sections. If information is copied into the supplemental form from another source, applicants should verify that pasted text is fully captured on the supplemental form and has not been truncated by the character limits built into the form. Applicants should use both the “Check Package for Errors” and the “Validate Form” validation buttons on both forms to check all required fields on the forms, and ensure that the Federal and local amounts specified are consistent.

b. Application Content

The SF-424 Application for Federal Assistance and the supplemental form will prompt applicants for the required information:

a. Applicant name

b. Unique entity identifier (generated by SAM.GOV)

c. Key contact information (including contact name, address, email address, and phone)

d. Congressional district(s) in which project is located

e. Project information (including title, executive summary, and type)

f. A detailed description of the need for the project

g. A detailed description of how the project will support the program objectives

h. Evidence that the project is consistent with local and regional planning objectives

i. Evidence that the applicant can provide the non-Federal cost share

j. A description of the technical, legal, and financial capacity of the applicant

k. A detailed project budget

l. An explanation of the scalability of the project

m. Details on the non-Federal matching funds

n. A detailed project timeline

o. The applicant's Transit Asset Management Plan (or, if lengthy, applicable sections sufficient to determine the project is consistent with the plan)

p. Information related to priority considerations in Sections E.2.

Applicants should reference the criteria described in Section E of this NOFO for further description of the content applicants should address in their applications.

3. Unique Entity Identifier and System for Award Management (SAM)

Each applicant is required to: (1) be registered in SAM before submitting an application; (2) provide a valid unique entity identifier in its application; and (3) continue to maintain an active SAM registration with current information at all times during which the applicant has an active Federal award or an application or plan under consideration by FTA. FTA may not make an award until the applicant has complied with all applicable unique entity identifier and SAM requirements. If an applicant has not fully complied with the requirements by the time FTA is ready to make an award, FTA may determine that the applicant is not qualified to receive an award and use that determination as a basis for making a Federal award to another applicant. These requirements do not apply if the applicant has an exception approved by FTA or the U.S. Office of Management and Budget under 2 CFR 25.110(c) or (d).

All applicants must provide a unique entity identifier provided by SAM. Registration in SAM may take as little as 3-5 business days, but since there could be unexpected steps or delays (for example, if there is a need to obtain an Employer Identification Number), FTA recommends allowing ample time, up to several weeks, for completion of all steps. For additional information on obtaining a unique entity identifier, please visit https://www.sam.gov.

4. Submission Dates and Times

Project proposals must be submitted electronically through GRANTS.GOV by 11:59 p.m. Eastern Time on January 5, 2023. GRANTS.GOV attaches a time stamp to each application at the time of submission. Mail and fax submissions will not be accepted.

FTA urges applicants to submit applications at least 72 hours prior to the deadline to allow time to correct any problems that may have caused either GRANTS.GOV or FTA systems to reject the submission. Proposals submitted after the deadline will be considered only if lateness was due to extraordinary circumstances not under the applicant's control. Deadlines will not be extended due to scheduled website maintenance. GRANTS.GOV scheduled maintenance and outage times are announced on the GRANTS.GOV website.

Within 48 hours after submitting an electronic application, the applicant should receive an email message from GRANTS.GOV with confirmation of successful transmission to GRANTS.GOV. If a notice of failed validation or incomplete materials is received, the applicant must address the reason for the failed validation, as described in the email notice, and resubmit before the submission deadline. If making a resubmission for any reason, include all original attachments regardless of which attachments were updated and check the box on the supplemental form indicating this is a resubmission.

Applicants are encouraged to begin the process of registration on the GRANTS.GOV site well in advance of the submission deadline. Registration is a multi-step process, which may take several weeks to complete before an application can be submitted. Registered applicants may still be required to take steps to keep their registration up to date before submissions can be made successfully: (1) registration in SAM is renewed annually; and (2) persons making submissions on behalf of the Authorized Organization Representative (AOR) must be authorized in GRANTS.GOV by the AOR to make submissions.

5. Funding Restrictions

Funds made available under this NOFO cannot be used to reimburse applicants for otherwise eligible expenses incurred prior to the posting of project selections on FTA's website and the corresponding issuance of pre-award authority. Allowable direct and indirect expenses must be consistent with the Government-wide Uniform Administrative Requirements, Cost Principles, and Audit Requirements for Federal Awards (2 CFR part 200) and FTA Circular 5010.1E.

6. Other Submission Requirements

Applicants are encouraged to identify scaled funding options in case insufficient funding is available to fund a project at the full requested amount. If an applicant advises that a project is scalable, the applicant must provide an appropriate minimum funding amount that will fund an eligible project that achieves the objectives of the program and meets all relevant program requirements. The applicant must provide a clear explanation of how the project budget would be affected by a reduced award. FTA may award a lesser amount whether or not a scalable option is provided. FTA may award funds using a multi-year grant agreement of up to three years, as described in Section B of this notice.

E. Application Review Information

1. Criteria

Projects will be evaluated primarily on the responses provided in the supplemental form. Additional information may be provided to support the responses; however, any additional documentation must be directly referenced on the supplemental form, including the file name where the additional information can be found. FTA will evaluate project proposals based on the criteria described in this notice.

a. Demonstration of Need

Since the purpose of this program is to fund rail rolling stock and maintain public transportation systems in a state of good repair, applications will be evaluated based on the quality and extent to which they demonstrate how the proposed project will address an unmet need for capital investment in rail vehicles.

Applicants must provide information on the age, condition, and performance of the rail vehicles to be replaced. The law requires FTA “to consider the age and condition of the rail rolling stock of the applicant that has exceeded or will exceed the useful service life of the rail rolling stock in the 5-year period following the grant.” FTA will define that 5 years as starting 1 year after the date applications are due. FTA will provide higher priority for rolling stock already past its useful life. The proposal must address how the project conforms to the applicant's spare ratio guidelines and provide the rationale.

b. Demonstration of Benefits

FTA will evaluate the potential for projects to improve the condition of the transit system by replacing rail vehicles that are in poor condition or have surpassed their minimum or intended useful life benchmarks.

Safety. FTA will evaluate the potential for projects to improve the safety of the transit system. Applicants may describe the benefits of increased safety of replacement vehicles and how that may impact the broader safety of their transportation system.

Performance: FTA will evaluate the benefits of reducing breakdowns and service interruptions, increasing service performance and reliability, and reducing the cost of maintaining outdated vehicles.

Enhanced Access and Mobility for People with Disabilities. FTA will evaluate the potential for projects to improve access and mobility for persons with disabilities, including wheelchair users.

Combatting Climate Change: FTA will evaluate the benefits of any otherwise eligible project that is proposing to replace a locomotive or self-propelled passenger cars with a locomotive or self-propelled passenger cars that produces fewer harmful emissions at the point of service.

c. Planning and Local/Regional Prioritization

Applicants must demonstrate how the proposed project is consistent with local and regional planning documents and identified priorities. This will involve assessing whether the project is consistent with the transit priorities identified in the long-range transportation plan and the State and Metropolitan Transportation Improvement Program (STIP/TIP). Applicants should note if the project could not be included in the financially constrained STIP or TIP due to lack of funding, and if selected that the project can be added to the federally approved STIP before grant award.

FTA will evaluate applications based on the quality and extent to which they assess whether the project is consistent with the rail vehicle replacement priorities identified in the applicant's Transit Asset Management Plan (TAM), pursuant to 49 CFR part 625.

FTA encourages applicants to demonstrate State or local support by including letters of support from State departments of transportation, local transit agencies, local government officials and public agencies, local non-profit or private sector organizations, and other relevant stakeholders. Applications that include letters of support will be viewed more favorably than those that do not. For FTA to fully consider a letter of support, the letter must be included in the application package. In an area with both rail and other public transit operators, FTA will evaluate whether project proposals demonstrate coordination with and support of other related projects within the applicant's Metropolitan Planning Organization (MPO) or the geographic region within which the proposed project will operate.

d. Local Financial Commitment

Applicants must identify the sources of funding for the total eligible vehicle replacement project cost, including other Federal funding if applicable, and the local cost share, and describe whether such funds are currently available for the project or will need to be secured if the project is selected for funding. FTA will consider the availability of the local cost share as evidence of local financial commitment to the project. Additional consideration will be given to those projects for which local funds have already been made available or reserved. Applicants should submit evidence of the availability of funds for the project, by including, for example, a board resolution, letter of support from the State, a budget document highlighting the line item or section committing funds to the proposed project, or other documentation of the source of other non-Federal funds.

An applicant may provide documentation of previous and recent local investments in the project, which cannot be used to satisfy non-Federal matching requirements, as evidence of local financial commitment.

e. Project Implementation Strategy

Projects will be evaluated based on the extent to which the project is ready to implement within a reasonable period of time and whether the applicant's proposed implementation plans are reasonable and complete.

In assessing whether the project is ready to implement within a reasonable period of time, FTA will consider whether the project qualifies for a Categorical Exclusion, or whether the required environmental work has been initiated or completed for projects that require an Environmental Assessment or Environmental Impact Statement under the National Environmental Policy Act of 1969. As such, applicants should submit information describing the project's anticipated path and timeline through the environmental review process. If the project will qualify as a Categorical Exclusion, the applicant must say so explicitly in the application. The proposal must also state whether grant funds can be obligated within 12 months from time of award, if selected, and if necessary, the timeframe under which the Metropolitan TIP and STIP can be amended to include the proposed project. Additional consideration will be given to projects for which grant funds can be obligated within 12 months from time of award.

In assessing whether the proposed implementation plans are reasonable and complete, FTA will review the proposed project implementation plan, including all necessary project milestones and the overall project timeline. For projects that will require formal coordination, approvals, or permits from other agencies or project partners, the applicant must demonstrate coordination with these organizations and their support for the project, such as through letters of support.

f. Technical, Legal, and Financial Capacity

Applicants must demonstrate that they have the technical, legal, and financial capacity to undertake the project. FTA will review relevant oversight assessments and records to determine whether there are any outstanding legal, technical, or financial issues with the applicant that would affect the outcome of the proposed project. Additional information on the compliance requirements for these grants appears later in this notice.

Applicants with outstanding legal, technical, or financial compliance issues from an FTA compliance review or FTA grant-related Single Audit finding must explain how corrective actions taken will mitigate negative impacts on the project.

2. Review and Selection Process

FTA technical evaluation committees will evaluate proposals using the project evaluation criteria. FTA staff may request additional information from applicants, if necessary. After consideration of the findings of the technical evaluation committees, the FTA Administrator will determine the final selection of projects for program funding. In determining the allocation of program funds, FTA may consider geographic diversity, the age of the vehicles to be replaced, diversity in the size of the transit systems receiving funding, and the applicant's availability of State of Good Repair Formula funding or other competitive awards. FTA may consider capping the amount a single applicant may receive.

After applying the above criteria, and in support of Executive Order 13985, Advancing Racial Equity and Support for Underserved Communities Through the Federal Government, and Executive Order 14052, Implementation of the Infrastructure Investment and Jobs Act, FTA will give priority to applications that advance racial equity in two areas: (1) planning and policies related to racial equity and overcoming barriers to opportunity; and (2) project investments that either proactively address racial equity and barriers to opportunity, including automobile dependence as a form of barrier, or redress prior inequities and barriers to opportunity. This objective has the potential to enhance environmental stewardship and community partnerships, and reflects Executive Order 13985, Advancing Racial Equity and Support for Underserved Communities Through the Federal Government. FTA encourages the applicant to include sufficient information to evaluate how the applicant will advance racial equity and address barriers to opportunity. The applicant should describe any transportation plans or policies related to equity and barriers to opportunity they are implementing or have implemented in relation to the proposed project, along with the specific project investment details necessary for FTA to evaluate if the investments are being made either proactively to advance racial equity and address barriers to opportunity or redress prior inequities and barriers to opportunity. All project investment costs for the project that are related to racial equity and barriers to opportunity should be summarized.

3. Integrity and Performance Review

Prior to making an award with a total amount of Federal share greater than the simplified acquisition threshold (currently $250,000), FTA is required to review and consider any information about the applicant that is in the Federal Awardee Performance and Integrity Information Systems (FAPIIS) accessible through SAM. An applicant may review and comment on information about itself that a Federal awarding agency previously entered. FTA will consider any comments by the applicant, in addition to the other information in FAPIIS, in making a judgment about the applicant's integrity, business ethics, and record of performance under Federal awards when completing the review of risk posed by applicants as described in 2 CFR 200.206.

F. Federal Award Administration Information

1. Federal Award Notices

Final project selections will be posted on the FTA website. Only proposals from eligible recipients for eligible activities will be considered for funding. There is no minimum or maximum grant award amount; however, FTA intends to fund up to three meritorious projects per year of funding. FTA may also award multi-year grant agreements of up to three years.

2. Administrative and National Policy Requirements

a. Pre-Award Authority

At the time the project selections are announced, FTA will extend pre-award authority for the selected projects. There is no blanket pre-award authority for these projects before announcement, and pre-award authority cannot be used prior to FTA issuance of pre-award authority. FTA does not provide pre-award authority for competitive funds until projects are selected and even then, there are Federal requirements that must be met before costs are incurred. For more information about FTA's policy on pre-award authority, please see FTA's 2022 Apportionment Notice (87 FR 25362).

b. Grant Requirements

If selected, awardees will apply for a grant through FTA's Transit Award Management System (TrAMS). All recipients are subject to the grant requirements of the State of Good Repair program (49 U.S.C. 5337), FTA's Master Agreement for financial assistance awards, the annual Certifications and Assurances required of applicants, and FTA Circular “State of Good Repair Grant Program” (FTA.C.5300.1E). All recipients must also follow the Award Management Requirements (FTA.C.5010.1) and the labor protections required by Federal public transportation law (49 U.S.C. 5333(b)). All these documents are available on FTA's website. Technical assistance regarding these requirements is available from each FTA regional office.

c. Buy America and Domestic Preference for Infrastructure Projects

All capital procurements must comply with FTA's Buy America requirements (49 U.S.C. 5323(j) and 49 CFR part 661), which require that all iron, steel, and manufactured products be produced in the United States, and imposes minimum domestic content and final assembly requirements for rolling stock. In addition, any award must comply with the Build America, Buy America Act (BABA) (Pub. L. 117-58 §§ 70901-52). BABA provides that none of the funds provided under an award made pursuant to this notice may be used for a project unless all iron, steel, manufactured products, and construction materials are produced in the United States. FTA's Buy America requirements are consistent with BABA requirements for iron, steel, and manufactured products.

Any proposal that will require a waiver of any domestic preference standard must identify the items for which a waiver will be sought in the application. Applicants should not proceed with the expectation that waivers will be granted.

d. Civil Rights Requirements

Applications should demonstrate that the recipient has a plan for compliance with civil rights obligations and nondiscrimination laws, including Title VI of the Civil Rights Act of 1964, the Americans with Disabilities Act (ADA), and Section 504 of the Rehabilitation Act, and accompanying regulations. This should include a current Title VI program plan and a completed Community Participation Plan (alternatively called a Public Participation Plan), if applicable. Applicants who have not sufficiently demonstrated the conditions of compliance with civil rights requirements will be required to do so before receiving funds.

Recipients of Federal transportation funding will be required to comply fully with regulations and guidance for the ADA, Title VI of the Civil Rights Act of 1964, Section 504 of the Rehabilitation Act of 1973, and all other civil rights requirements. The Department's and FTA's Office of Civil Rights may work with awarded grant recipients to ensure full compliance with Federal civil rights requirements.

e. Disadvantaged Business Enterprise

Projects for railcar acquisitions are subject to the transit vehicle manufacturer (TVM) rule of the USDOT's Disadvantaged Business Enterprise (DBE) program regulations (49 CFR 26.49). The TVM rule requires recipients procuring transit vehicles to limit eligible bidders to certified TVMs. To become a certified TVM, a manufacturer of transit vehicles must submit a DBE program plan and annual goal to FTA for approval. A list of certified TVMs is posted on FTA's web page at https://www.transit.dot.gov/TVM. Recipients should contact FTA before accepting bids from entities not listed on this web page.

In lieu of restricting eligibility to certified TVMs, a recipient may, with FTA's approval, establish project-specific goals for DBE participation in the procurement of transit vehicles.

For more information on DBE requirements, please contact Monica McCallum, FTA Office of Civil Rights, 206-220-7519, Monica.McCallum@dot.gov.

f. Planning

FTA encourages applicants to notify the appropriate State Departments of Transportation and MPOs in areas likely to be served by the project funds made available under these initiatives and programs. Selected projects must be incorporated into the long-range plans and transportation improvement programs of States and metropolitan areas before they are eligible for FTA funding. As described under the evaluation criteria, FTA may consider whether a project is consistent with or already included in these plans when evaluating a project.

g. Standard Assurances

The applicant assures that it will comply with all applicable Federal statutes, regulations, executive orders, directives, FTA circulars, and other Federal administrative requirements in carrying out any project supported by the FTA grant. The applicant acknowledges that it is under a continuing obligation to comply with the terms and conditions of the grant agreement issued for its project with FTA. The applicant understands that Federal laws, regulations, policies, and administrative practices might be modified from time to time and may affect the implementation of the project. The applicant agrees that the most recent Federal requirements will apply to the project, unless FTA issues a written determination otherwise. The applicant must submit the Certifications and Assurances before receiving a grant if it does not have current certifications on file.

3. Reporting

Post-award reporting requirements include the electronic submission of Federal Financial Reports and Milestone Progress Reports. Applicant should include goals, targets, and indicators referenced in their application to the project in the Executive Summary of the TrAMS application. Recipients or beneficiaries of funds made available through this NOFO are also required to regularly submit data to the National Transit Database. National Transit Database reports include total sources of revenue and complete expenditure reports for all public transportation operations, not just those funded by this project.

FTA is committed to making evidence-based decisions guided by the best available science and data. In accordance with the Foundations for Evidence-Based Policymaking Act of 2018 (Evidence Act), FTA may use information submitted in discretionary funding applications; information in FTA's Transit Award Management System (TrAMS), including grant applications, Milestone Progress Reports (MPRs), Federal Financial Reports (FFRs); transit service, ridership and operational data submitted in FTA's National Transit Database; documentation and results of FTA oversight reviews, including triennial and state management reviews; and other publicly available sources of data to build evidence to support policy, budget, operational, regulatory, and management processes and decisions affecting FTA's grant programs.

As part of completing the annual certifications and assurances required of FTA grant recipients, a successful applicant must report on the suspension or debarment status of itself and its principals. If the award recipient's active grants, cooperative agreements, and procurement contracts from all Federal awarding agencies exceeds $10,000,000 for any period of time during the period of performance of an award made pursuant to this Notice, the recipient must comply with the Recipient Integrity and Performance Matters reporting requirements described in Appendix XII to 2 CFR part 200.

G. Federal Awarding Agency Contacts

For further information concerning this notice, please contact the Competitive Grants for Rail Vehicle Replacement Program manager, Donna Iken, by phone at 202-366-8076, or by email at Donna.Iken@dot.gov. A TDD is available for individuals who are deaf or hard of hearing at 800-877-8339. To ensure receipt of accurate information about eligibility or the program, the applicant is encouraged to contact FTA directly, rather than through intermediaries or third parties. For issues with GRANTS.GOV, please contact GRANTS.GOV by phone at 1-800-518-4726 or by email at support@grants.gov. Contact information for FTA's regional offices can be found on FTA's website at https://www.transit.dot.gov.

H. Other Information

This program is not subject to Executive Order 12372, “Intergovernmental Review of Federal Programs.” FTA will consider applications for funding only from eligible recipients for eligible projects listed in Section C.

Nuria I. Fernandez,
Administrator.

[FR Doc. 2022-22122 Filed 10-11-22; 8:45 am]

BILLING CODE 4910-57-P